DEPARTMENT OF HEALTH AND HUMAN SERVICES

Centers for Disease Control and Prevention

[30Day-20-0995]

Agency Forms Undergoing Paperwork Reduction Act Review

In accordance with the Paperwork Reduction Act of 1995, the Centers for Disease Control and Prevention (CDC) has submitted the information collection request titled “National Network of Sexually Transmitted Diseases Clinical Prevention Training Centers” to the Office of Management and Budget (OMB) for review and approval. CDC previously published a “Proposed Data Collection Submitted for Public Comment and Recommendations” notice on November 4, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Network of Sexually Transmitted Diseases Clinical Prevention Training Centers (OMB No. 0920-0995, Expiration 05/31/2020)—Extension—National Center for HIV/AIDS, Viral Hepatitis, STD, and TB Prevention (NCHHSTP), Centers for Disease Control and Prevention (CDC).

Background and Brief Description

The Centers for Disease Control and Prevention (CDC), Division of STD Prevention requests an extension and three-year approval of the currently approved information collection request that comprises the NNPTC Abbreviated Health Professional Application for Training (NNPTC Abbreviated HPAT). This extension will allow the NNPTC Abbreviated HPAT to continue to serve as the official training application form used for training activities conducted by the Sexually Transmitted Disease (STD) Prevention Training Centers' (PTCs) grantees funded by the (CDC). The PTCs are funded by CDC/Division of STD Prevention (DSTDP) to provide training and capacity-building that includes information, training, technical assistance and technology transfer.

The PTCs offer classroom and experiential training, web-based training, clinical consultation, and capacity building assistance to maintain and enhance the capacity of health care professionals to control and prevent STDs and HIV. The NNPTC Abbreviated HPAT is used to monitor and evaluate performance and reach of grantees that offer STD and HIV prevention training, training assistance, and capacity building assistance to physicians, nurses, disease intervention specialists, health educators, etc. During the previously approved three-year period, data was collected to monitor and evaluate the performance of the NNTPC grantees and the NNPTC program. This data provided the NNPTC with necessary information to improve program processes and operations in order to improve the quality of STD prevention and treatment.

The 4,500 respondents (who will engage in a total of 11,769 respondent instances) represent an average of the number of health professionals trained by PTC grantees during 2015. The evaluation instruments collect data on the impact of the training by the NNPTC. This data collection is necessary to assess and evaluate the performance of the grantees in delivering training, and to standardize training registration processes across the PTCs. The NNPTC Abbreviated HPAT allows CDC grantees to use a single instrument when collecting demographic data from its training and capacity building participants, regarding their: (1) Occupations, professions, and functional roles; (2) principal employment settings; (3) location of their work settings; and (4) programmatic and population foci of their work. The NNPTC Abbreviated HPAT takes approximately three minutes to complete. This data collection provides CDC with information to determine whether the training grantees are reaching their target audiences in terms of provider type, the types of organizations in which participants work, the focus of their work and the population groups and geographic areas served.

The evaluation instruments are used to assess training and capacity-building outcomes (knowledge, confidence, intention to use information, actual changes made as a result of training) immediately after and again 90 days after training events. The evaluation instruments vary based on the type of training offered and take between approximately 16 minutes to complete (for intensive multi-day trainings) to two minutes to complete (for short didactic or webinar sessions).

The CDC's Funding Opportunity Announcement PS 14-1407, National Network of Sexually Transmitted Diseases Clinical Prevention Training Centers (NNPTC) requires the collection of national demographic information on grantees' trainees and national evaluation outcomes. There are no costs to respondents other than their time. The estimated annualized burden hours for this data collection are 502 hours.

Estimated Annualized Burden Hours
Type of respondent | Form name | Number of respondents | Number responses per respondent | Average burden per response (in hours)
Healthcare Professionals | NNPTC Abbreviated Health Professional Application for Training (HPAT) | 4,500 | 1 | 3/60
Healthcare Professionals | Intensive Complete Post-Course Evaluation | 116 | 1 | 16/60
| Intensive Complete Long-Term Evaluation | 36 | 1 | 10/60
Healthcare Professionals | Intensive-Didactic Post-Course Evaluation | 166 | 1 | 10/60
| Intensive-Didactic Long-Term Evaluation | 58 | 1 | 7/60
Healthcare Professionals | Practicum Post-Course Evaluation | 70 | 1 | 4/60
| Practicum Long-Term Evaluation | 20 | 1 | 3/60
Healthcare Professionals | Wet Mount Post-Course Evaluation | 40 | 1 | 3/60
| Wet Mount Long-Term Evaluation | 15 | 1 | 2/60
Healthcare Professionals | STD Tx Guidelines Complete Post-Course Evaluation | 548 | 1 | 6/60
| STD Tx Guidelines Complete Long-Term Evaluation | 180 | 1 | 5/60
Healthcare Professionals | Short Guidelines Post-Course Evaluation | 500 | 1 | 3/60
| Short Guidelines Long-Term Evaluation | 160 | 1 | 3/60
Healthcare Professionals | Basic Post-Course Evaluation | 150 | 1 | 2/60
| Basic Long-Term Evaluation | 50 | 1 | 2/60
Healthcare Professionals | Immediate Post-Course email invitation | 4,500 | 1 | 1/60
Healthcare Professionals | 3 Month Long-Term email invitation | 660 | 1 | 1/60

Jeffrey M. Zirger,
Lead, Information Collection Review Office, Office of Scientific Integrity, Office of Science, Centers for Disease Control and Prevention.

[FR Doc. 2020-06943 Filed 4-2-20; 8:45 am]

BILLING CODE 4163-18-P